DEPARTMENT OF AGRICULTURE

Grain Inspection, Packers and Stockyards Administration

Designation of Hastings Grain Inspection, Inc. To Provide Class X or Class Y Weighing Services

AGENCY: Grain Inspection, Packers and Stockyards Administration, USDA.

ACTION: Notice.

SUMMARY: GIPSA is announcing the designation of Hastings Grain Inspection, Inc. (Hastings) to provide Class X or Class Y weighing services under the United States Grain Standards Act (USGSA), as amended.

DATES: Effective August 5, 2016.

FOR FURTHER INFORMATION CONTACT: Jacob Thein, 816-866-2223 or FGIS.QACD@usda.gov

SUPPLEMENTARY INFORMATION: In the December 9, 2014, Federal Register (79 FR 73027), GIPSA announced the designation of Hastings to provide official services under the USGSA, effective October 1, 2014, to September 30, 2017. Subsequently, Hastings asked GIPSA to amend their designation to include official weighing services. The USGSA authorizes the Secretary to designate authority to perform official weighing to an agency providing official inspection services within a specified geographic area, if such agency is qualified under 7 U.S.C. 79. Under 7 U.S.C. 79(a), GIPSA evaluated information regarding the designation criteria in section 7 U.S.C. 79 and determined that Hastings is qualified to provide official weighing services in their currently assigned geographic area.

Hastings' designation is amended to include Class X or Class Y weighing within their assigned geographic area, effective August 5, 2016, to September 30, 2017. Interested persons may obtain official services by contacting Hastings at (402) 462-4254.

Authority: 7 U.S.C. 71-87k.

Susan B. Keith,
Acting Administrator, Grain Inspection, Packers and Stockyards Administration.

[FR Doc. 2016-25613 Filed 10-21-16; 8:45 am]

BILLING CODE 3410-KD-P